DEPARTMENT OF HOMELAND SECURITY

Coast Guard

33 CFR Part 100

[Docket Number USCG-2025-0404]

RIN 1625-AA08

Special Local Regulation; Elizabeth River, Western Branch, Portsmouth, VA

AGENCY: Coast Guard, DHS.

ACTION: Temporary final rule.

SUMMARY: The Coast Guard is establishing a temporary special local regulation for certain waters on the Western Branch of the Elizabeth River in Portsmouth, VA. This action is necessary to provide for the safety of life on these navigable waters during a high-speed boat race. This rulemaking would prohibit persons and vessels from entering the regulated area unless authorized by the Captain of the Port, Sector Virginia or a designated representative.

DATES: This rule is effective from August 9, 2025 through August 10, 2025. However, it will only be enforced from 10 a.m. to 4 p.m. on each day it is in effect.

ADDRESSES: To view documents mentioned in this preamble as being available in the docket, go to https://www.regulations.gov, type USCG-2025-0404 in the search box and click “Search.” Next, in the Document Type column, select “Supporting & Related Material.”

FOR FURTHER INFORMATION CONTACT: If you have questions about this rule, call or email LCDR Justin Strassfield, Sector Virginia, Waterways Management Division, U.S. Coast Guard, Telephone: (571) 608-2969; or virginiawaterways@uscg.mil.

SUPPLEMENTARY INFORMATION:

I. Table of Abbreviations

CFR Code of Federal Regulations

COTP Captain of the Port, Sector Virginia

DHS Department of Homeland Security

FR Federal Register

NPRM Notice of Proposed Rulemaking

§ Section

SLR Special Local Regulation

U.S.C. United States Code

II. Background Information and Regulatory History

On February 12, 2025, the Coast Guard received a request, under 33 CFR 100.15, from the Portsmouth Power Boating Association, for a Marine Event Permit to host a high-speed boat race to be held on August 9-10, 2025, from 10 a.m. until 4 p.m. each day, on the Western Branch of the Elizabeth River in Portsmouth, VA. In response, on May 18, 2025, the Coast Guard published a notice of proposed rulemaking (NPRM) titled Special Local Regulation; Elizabeth River, Western Branch, Portsmouth, VA (90 FR 21252). There, we stated why we had issued the NPRM and we invited comments on our proposed regulatory action related to this high-speed boat race. During the comment period that ended June 3, 2025, we received one comment.

III. Legal Authority and Need for Rule

The Coast Guard is issuing this rule under the authority in 46 U.S.C. 70041. The Captain of the Port, Sector Virginia (COTP) has determined that potential hazards associated with a high-speed boat race will be a safety concern for anyone within the race area of the Western Branch of the Elizabeth River on August 9-10, 2025. The purpose of this rule is to ensure safety of vessels on the navigable waters in the special local regulation (SLR) before, during, and after the scheduled event.

IV. Discussion of Comments, Changes, and the Rule

As noted above, we received one comment on our NPRM, which was published at 90 FR 21252 on May 19, 2025. The Captain of the Port, Sector Virginia (COTP) received the comment via email to the virginiawaterways@uscg.mil inbox and we have posted it in the docket. The commenter agreed with the size and scope of the SLR, “provided the regulation is only in effect for the duration of the event and for a reasonable time before or after if needed.” However, they would like the sponsor of the event to make a “reasonable effort to inform local residents and any party who is likely to be affected by the regulation at least a week in advance,” and post signs near the event. They would also like the sponsor of the event to allow a way for members of the public to provide comments to them and to the Coast Guard and receive feedback on their comments.

In response, we note that the Captain of the Port, Sector Virginia (COTP) will issue a Broadcast Notice to Mariners (BNM) at least two days prior to the event and a Local Notice to Mariners (LNM) three weeks prior to the event. Along with publication of the NPRM and of this final rule in the FR, these are the ways we traditionally provide notice and receive feedback from potential users of the waters which will be restricted by a special local regulation, and we believe these ways are sufficient here. We explain how members of the public can contact the Coast Guard if they wish to request permission to enter the special local regulation. In addition, we explain in the “Regulatory Analysis” section of this rulemaking how we have determined that this rule will not have a significant economic impact on any vessel owner or operator. There are no substantive changes in the regulatory text of this rule from the proposed rule in the NPRM.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the size, location, duration, and time-of-day of the SLR. Vessel traffic will be able to safely transit around this SLR which will impact a small, designated area of the Western Branch of the Elizabeth River for a 2-day event. Moreover, the Coast Guard will issue a Broadcast Notice to Mariners via VHF-FM marine channel 16 about the zone, and the rule will allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the SLR may be small entities, for the reasons stated in section V.A above, this rule will not have a significant economic impact on any vessel owner or operator.

Under section 213(a) of the Small Business Regulatory Enforcement Fairness Act of 1996 (Pub. L. 104-121), we will assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a SLR lasting 2 days that would prohibit entry within a race area. It is categorically excluded from further review under paragraph L61 of Appendix A, Table 1 of DHS Instruction Manual 023-01-001-01, Rev. 1. A Memorandum for the Record supporting this determination is available in the docket. For instructions on locating the docket, see the ADDRESSES section of this preamble.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T599-0404 to read as follows:

§ 100.T599-0404 Special Local Regulation; Western Branch of the Elizabeth River, Portsmouth, VA

(a) Regulated area. The regulations in this section apply to the following area: “All waters of Western Branch of the Elizabeth River, from surface to bottom, encompassed by a line connecting the following points 36°50′15.0″ N, 076°22′32.0″ W; 36°50′12.0″ N, 076°22′34.0″ W; 36°50′06.06″ N, 076°22′30.0″ W; 36°50′03.0″ N, 076°21′56.0″ W; 36°50′09.0″ N, 076°21′52.0″ W; 36°50′12.0″ N, 076°21′54.0″ W. These coordinates are based on WGS 84 coordinates.

(b) Definitions. As used in this section:

Designated representative means a Coast Guard Patrol Commander, including a Coast Guard coxswain, petty officer, or other officer operating a Coast Guard vessel and a Federal, State, and local officer designated by or assisting the Captain of the Port Virginia (COTP) in the enforcement of the regulations in this section.

Participant means any person or vessel registered with the event sponsor as a participant in the race.

(c) Regulations. (1) All non-participants are prohibited from entering, transiting through, anchoring in, or remaining within the regulated area described in paragraph (a) of this section unless authorized by the Captain of the Port Virginia or their designated representative.

(2) To seek permission to enter, contact the COTP or the COTP's representative by VHF/FM Channel 16. Those in the regulated area must comply with all lawful orders or directions given to them by the COTP or the designated representative.

(3) Controls on vessel movement. The Event PATCOM or official patrol vessel may forbid and control the movement of all persons and vessels in the regulated area(s). When hailed or signaled by an official patrol vessel, the person or vessel being hailed must immediately comply with all directions given. Failure to do so may result in expulsion from the area, citation for failure to comply, or both.

(4) The COTP will provide notice of the regulated area through advanced notice via broadcast notice to mariners and by on-scene designated representatives.

(d) Enforcement period. This section will be enforced on August 9 and 10, 2025, from 10 a.m. to 4 p.m. on each day.

Dated: June 12, 2025.
Peggy M. Britton,
Captain, U.S. Coast Guard, Captain of the Port Sector Virginia.

[FR Doc. 2025-11494 Filed 6-20-25; 8:45 am]

BILLING CODE 9110-04-P